DEPARTMENT OF VETERANS AFFAIRS

[OMB Control No. 2900-0432]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before February 12, 2001.

FOR FURTHER INFORMATION CONTACT: Denise McLamb, Information Management Service (045A4), Department of Veterans Affairs, 810 Vermont Avenue, NW., Washington, DC 20420, (202) 273-8030 or FAX (202) 273-5981. Please refer to “OMB Control No. 2900-0432.”

SUPPLEMENTARY INFORMATION: Title: Invitation, Bid, and/or Acceptance or Authorization, VA Form 26-6724.

OMB Control Number: 2900-0432.

Type of Review: Extension of a currently approved collection.

Abstract: The form is used to solicit competitive bids; serves as a work order for repair of properties acquired by VA; serves as a record of contractor bids, VA acceptance of bids, inspection of completed work and contractor invoices and payments.

An agency may not conduct or sponsor, and a person is not required to respond to a collection of information unless it displays a currently valid OMB control number. The Federal Register notice with a 60-day comment period soliciting comments on this collection of information was published on September 14, 2000, at pages 55679-55680.

Affected Public: Business or other for profit.

Estimated Annual Burden: One (1) hour is being claimed for inventory purposes. The solicitation of bids is a common practice in the real estate management industry, and the submission of bids is routine with repair contractors.

Estimated Average Burden Per Respondent: 30 minutes.

Frequency of Response: On occasion.

Estimated Number of Respondents: 60,000.

Send comments and recommendations concerning any aspect of the information collection to VA's OMB Desk Officer, OMB Human Resources and Housing Branch, New Executive Office Building, Room 12035, Washington, DC 20503 (202) 395-7316. Please refer to “OMB Control No. 2900-0432” in any correspondence.

Dated: December 1, 2000.
By direction of the Secretary:
Barbara H. Epps,
Management Analyst, Information Management Service.

[FR Doc. 01-828 Filed 1-10-01; 8:45 am]

BILLING CODE 8320-01-P